GULF COAST ECOSYSTEM RESTORATION COUNCIL

40 CFR Part 1800

[Docket Number: 109002015-1111-08]

RESTORE Act Spill Impact Component Allocation

AGENCY: Gulf Coast Ecosystem Restoration Council

ACTION: Notice of proposed rulemaking.

SUMMARY: The Gulf Coast Ecosystem Restoration Council (Council) is publishing for public and Tribal comment proposed regulations to implement the Spill Impact Component of the Resources and Ecosystems Sustainability, Tourist Opportunities, and Revived Economies of the Gulf Coast States Act of 2012 (RESTORE Act). These regulations will establish the formula allocating funds made available from the Gulf Coast Restoration Trust Fund (Trust Fund) among the Gulf Coast States of Alabama, Florida, Louisiana, Mississippi and Texas (“State” or “States”) pursuant to Sec. 1603(3) of the RESTORE Act.

DATES: Comments are due October 29, 2015.

ADDRESSES: Comments may be submitted through one of these methods:

Electronic Submission of Comments: Interested persons may submit comments electronically by sending them to frcomments@restorethegulf.gov. Electronic submission of comments allows the commenter maximum time to prepare and submit a comment, ensures timely receipt, and enables the Council to make them available to the public. In general, the Council will make such comments available for public inspection and copying on its Web site, www.restorethegulf.gov, without change, including any business or personal information provided, such as names, addresses, email addresses, or telephone numbers. All comments received, including attachments and other supporting materials, will be part of the public record and subject to public disclosure. You should only submit information that you wish to make publicly available.

Mail: Send to Gulf Coast Ecosystem Restoration Council, 500 Poydras Street, Suite 1117, New Orleans, LA 70130.

FOR FURTHER INFORMATION CONTACT: Please send questions by email to frcomments@restorethegulf.gov, or contact Will Spoon at (504) 239-9814.

SUPPLEMENTARY INFORMATION:

Effective Date

This proposed rule, if and when final, would become effective on the date that the court enters a consent decree among the United States, the Gulf Coast States and BP with respect to the civil penalty and natural resource damages in MDL No. 2179 (United States District Court for the Eastern District of Louisiana).

Background

The Gulf Coast region is vital to our nation and our economy, providing valuable energy resources, abundant seafood, extraordinary beaches and recreational activities, and a rich natural and cultural heritage. Its waters and coasts are home to one of the most diverse natural environments in the world—including over 15,000 species of sea life and millions of migratory birds. The Gulf has endured many catastrophes, including major hurricanes such as Katrina, Rita, Gustav and Ike in the last ten years alone. The region has also experienced the loss of critical wetland habitats, erosion of barrier islands, imperiled fisheries, water quality degradation and significant coastal land loss. More recently, the health of the region's ecosystem was significantly affected by the Deepwater Horizon oil spill. As a result of the oil spill, the Council has been given the great responsibility of helping to address ecosystem challenges across the Gulf.

In 2010 the Deepwater Horizon oil spill caused extensive damage to the Gulf Coast's natural resources, devastating the economies and communities that rely on it. In an effort to help the region rebuild in the wake of the spill, Congress passed and the President signed the RESTORE Act, Public Law 112-141, Sec. 1601-1608, 126 Stat. 588 (Jul. 6, 2012), codified at 33 U.S.C. 1321(t) and note. The RESTORE Act created the Gulf Coast Restoration Trust Fund (Trust Fund) and dedicates to the Trust Fund eighty percent (80%) of any civil and administrative penalties paid under the Clean Water Act, after enactment of the RESTORE Act, by parties responsible for the Deepwater Horizon oil spill.

Under the RESTORE Act, these funds will be made available through five components. The Department of the Treasury (Treasury) has issued regulations (79 FR 48,039 (Aug. 15, 2014), adopting interim final rule at 31 CFR part 34) (Treasury Regulations) applicable to all five components that generally describe the responsibilities of the Federal and State entities that administer RESTORE Act programs and carry out restoration activities in the Gulf Coast region.

Two of the five components, the Council-Selected Restoration Component and the Spill Impact Component, are administered by the Council, an independent Federal entity created by the RESTORE Act. Under the Spill Impact Component (33 U.S.C. 1321(t)(3)), the subject of this rule, 30 percent of funds in the Trust Fund will be disbursed to the States based on allocation criteria set forth in the RESTORE Act.¹ In order for funds to be disbursed to a State, the RESTORE Act requires each State to develop a State Expenditure Plan (SEP) and submit it to the Council for approval. The RESTORE Act specifies particular entities within the States to prepare these plans.

¹ 33 U.S.C. 1321(t)(3)(A)(ii). The Council previously promulgated a regulation permitting the States access to up to 5 percent of the total amount available in the Trust Fund to each State under the Spill Impact Component (the statutory minimum guaranteed to each State). These funds could be used for planning purposes associated with developing a State Expenditure Plan. 80 FR 1584 (Jan. 13, 2015); 40 CFR 1800.20.

SEPs must meet the following four criteria set forth in the RESTORE Act: (1) All projects, programs and activities (activities) included in the SEP are eligible activities under the RESTORE Act (33 U.S.C. 1321(t)(3)(B)(i)(I)); (2) all activities included in the SEP contribute to the overall economic and ecological recovery of the Gulf Coast (33 U.S.C. 1321(t)(3)(B)(i)(II)); (3) the SEP takes the Council's Comprehensive Plan into consideration and is consistent with the goals and objectives of the Comprehensive Plan (33 U.S.C. 1321(t)(3)(B)(i)(III)); and (4) no more than 25 percent of the allotted funds are used for infrastructure projects unless the SEP contains certain certifications pursuant to 33 U.S.C. 1321(t)(3)(B)(ii). If the Council determines that an SEP meets the four criteria listed above and otherwise complies with the RESTORE Act and the applicable Treasury Regulations, the Council must approve the SEP based upon such determination within 60 days after a State submits an SEP to the Council. 33 U.S.C. 1321(t)(3)(B)(iv).

The funds the Council disburses to the States upon approval of an SEP will be in the form of grants. As required by Federal law, the Council will award a Federal grant or grants to each of the States and incorporate into the grant award(s) standard administrative terms on such topics as recordkeeping, reporting and auditing. The Council will establish and implement a compliance program to ensure that the grants it issues comply with the terms of the grant agreement.

The ultimate amount of administrative and civil penalties potentially available to the Trust Fund is not yet known. On January 3, 2013, the United States announced that Transocean Deepwater Inc. and related entities agreed to pay $1 billion in civil penalties for violating the Clean Water Act in relation to their conduct in the Deepwater Horizon oil spill. The settlement was approved by the court in February 2013, and pursuant to the RESTORE Act approximately $816 million (including interest) has been paid into the Trust Fund. On July 2, 2015, BP announced that it reached Agreements in Principle (AIPs) for settlement of civil claims arising from the Deepwater Horizon oil spill. According to the announcement, the AIPs provide for a payment to the United States of a civil penalty of $5.5 billion under the Clean Water Act, payable over 15 years. As discussed above, the RESTORE Act provides that 80% of civil penalties paid under the Clean Water Act arising out of the Deepwater Horizon oil spill are dedicated to the Trust Fund. There are, however, additional steps that must be completed before those funds become available. The terms of the proposed settlements are subject to a confidentiality order and will not become final until, among other things, a consent decree is negotiated, is made available for public review and comment, and is approved and entered by the court.

This Proposed Rule

This proposed rule establishes the formula for allocating among the five States funds made available through the Spill Impact Component of the Trust Fund (Spill Impact Component), as required by the RESTORE Act, and would supplement the Treasury Regulations. This rule, and the application of any determinations made hereunder, is limited to the Spill Impact Component and is promulgated solely for the purpose of establishing such allocation. The Council takes no position on what data or determinations may be appropriate for other uses, including for any other Component of the RESTORE Act or in connection with natural resource damage assessments, ongoing litigation, any other law or regulation or any rights or obligations in connection therewith.

The RESTORE Act mandates that funds made available from the Trust Fund for the Spill Impact Component be disbursed to each State based on a formula established by the Council by a regulation based on a weighted average of the following three criteria: (1) Forty (40) percent based on the proportionate number of miles of shoreline in each State that experienced oiling on or before April 10, 2011, compared to the total number of miles of shoreline throughout the Gulf Coast region that experienced oiling as a result of the Deepwater Horizon oil spill; (2) forty (40) percent based on the inverse proportion of the average distance from the mobile offshore drilling unit Deepwater Horizon at the time of the explosion to the nearest and farthest point of the shoreline that experienced oiling of each State; and (3) twenty (20) percent based on the average population in the 2010 Decennial Census of coastal counties bordering the Gulf of Mexico within each State. 33 U.S.C. 1321(t)(3)(A)(ii).

For the first criterion, the Council used Shoreline Cleanup and Assessment Technique (SCAT) and Rapid Assessment Technique (RAT) data supplied by the United States Coast Guard. SCAT and RAT represent the U.S. Government's official dataset for tracking and responding to oil spills and thus represent the most consistent, clear and reasonable currently available dataset to use for determining the first criterion, which calls for a determination of the proportionate number of miles of shoreline in each State that experienced oiling on or before April 10, 2011, compared to the total number of miles of shoreline throughout the Gulf Coast region that experienced oiling as a result of the Deepwater Horizon oil spill.

For the second criterion, the Council used the same SCAT and RAT data along with official latitude and longitudinal data supplied by the U.S. Coast Guard to determine the inverse proportion of the average distance from the location of the Deepwater Horizon mobile offshore drilling unit at the time of the explosion to the nearest and farthest point of the shoreline that experienced oiling of each State.

For the third criterion, the Council first had to determine what constituted “coastal counties bordering the Gulf of Mexico within each Gulf Coast State” before it could determine the average population based on the 2010 Decennial Census. The RESTORE Act and Treasury's implementing regulations define the relevant counties for the State of Florida. 33 U.S.C. 1321(t)(1)(C). The Treasury regulations implementing the RESTORE Act specify these counties as: Bay, Charlotte, Citrus, Collier, Dixie, Escambia, Franklin, Gulf, Hernando, Hillsborough, Jefferson, Lee, Levy, Manatee, Monroe, Okaloosa, Pasco, Pinellas, Santa Rosa, Sarasota, Taylor, Wakulla, and Walton. 31 CFR 34.2. For the purposes of this draft rule, the Council proposes to define the Florida counties listed in the Treasury regulations as “coastal counties.”

However, the RESTORE Act does not specifically define the term “coastal counties,” nor does it identify specific counties in the States of Alabama, Louisiana, Mississippi or Texas that are “coastal counties” under the RESTORE Act. Nor does any other relevant Federal law or regulation define or identify these counties. Accordingly, the Council must itself determine which counties in those States qualify as “coastal counties” for the purposes of the Spill Impact Component.

For the States of Alabama, Louisiana, Mississippi and Texas, the Council proposes to interpret the term “coastal counties” as those counties that, according to a generally accessible geographic map of the states, physically touch the Gulf of Mexico. Using this interpretation, the Council proposes identifying the following counties as “coastal counties” for the purposes of the rule: Baldwin and Mobile Counties for Alabama; Cameron, Iberia, Jefferson, Lafourche, Orleans, Plaquemines, St. Bernard, St. Mary, St. Tammany, Terrebonne, and Vermilion Parishes for Louisiana; Hancock, Harrison, and Jackson Counties for Mississippi; and Aransas, Brazoria, Calhoun, Cameron, Chambers, Galveston, Jefferson, Kenedy, Kleberg, Matagorda, Nueces, and Willacy Counties for Texas.

Additionally, with respect to the State of Texas the Council considered the list of coastal counties used by the State of Texas Railroad Commission (TRC) (http://www.rrc.state.tx.us/), the Texas state agency responsible for regulating exploration, production and transportation of oil and natural gas in Texas as well as related pollution prevention measures—matters that are topically related to the purposes of the RESTORE Act. The counties identified in the TRC list are the same as those identified for Texas above.² The Council also considered other possible sources for determining the Texas coastal counties but has determined that they are insufficient for such purposes.

² The Council proposes to use the TRC list only for purposes of the Spill Impact Component criterion set forth in 33 U.S.C. 1321(t)(3)(A)(ii)(III). For the avoidance of doubt, the Council's use of this list has no bearing or effect on (i) any other provision of the RESTORE Act, the laws of Texas or any other Federal or state laws; (ii) any other determination of coastal counties, areas, jurisdictions or political subdivisions; or (iii) any other determination of legal rights or obligations.

After determining the “coastal counties,” the RESTORE Act requires the Council to use the 2010 Decennial Census figures for those counties to determine the average population of the coastal counties bordering the Gulf of Mexico within each State.

Using the figures calculated based on the above assumptions and applying the criteria specified in the RESTORE Act, the Council proposes that the final allocation among the five States be: Alabama—20.40%; Florida—18.36%; Louisiana—34.59%; Mississippi—19.07%; and Texas—7.58%.³

³ The Council notes that the calculations resulting in the above allocation involved rounding.

After consideration of public comment on this proposed rule, the Council will respond to those comments and revise the rule as appropriate. Consistent with the requirements of the RESTORE Act, the Council will then publicly vote on whether to adopt a final rule and publish the final rule in the Federal Register. 33 U.S.C. 1321(t)(2)(C)(vi). Approval of the rule requires the affirmative vote of the Chairperson and a majority of the five State members. 33 U.S.C. 1321(t)(2)(C)(vi)(I).

Environmental Compliance

The Council does not regard promulgating this proposed rule, including the allocation formula and State allocation percentages set forth herein, as requiring National Environmental Policy Act (NEPA) review, because the Council has no discretion in either establishing such elements of the Spill Impact Component or weighting such elements, both of which are specified in the RESTORE Act.

NEPA review will apply to specific activities undertaken pursuant to Council-approved SEPs that require significant Federal action before they can commence. For example, an SEP project requiring a Federal permit would generally require NEPA review by the issuing Federal agency, and obtaining such a permit might also require other Federal environmental compliance. No SEP implementation funds for an activity will be disbursed by the Council to a State until all requisite permits and licenses have been obtained.

The Council invites public comment on whether the Council's approving and funding SEPs under the RESTORE Act will require NEPA review, as outlined in the following analysis:

The Council does not anticipate that its review or approval of SEPs, or the issuance of related grants under the Spill Impact Component of the RESTORE Act, will require NEPA review. The Council has a limited statutory role in the review of SEPs and administration of Spill Impact Component grants, and a limited timeframe for Council SEP review under the RESTORE Act.

Under the RESTORE Act the Council has no role in the creation of SEPs or the design or selection of Spill Impact Component activities; those activities are undertaken solely by the States. The RESTORE Act specifies the four criteria that SEPs must meet in order to be eligible for funding, and when an SEP meets these criteria the Council has no authority or discretion to reject an SEP, to select or designate alternative versions of an SEP, or to select or designate alternative activities within an SEP. Although the Council must determine whether an SEP has met these criteria, the RESTORE Act does not grant the Council discretion to separately consider external factors, such as environmental impacts, in its review.

NEPA is designed to help Federal agencies consider environmental consequences during their decision-making process, and to consider alternatives to a proposed action. Since the Council has no role in creating SEPs and lacks the discretion to separately consider environmental consequences or SEP alternatives, a NEPA review would have no bearing on the Council's decision to either approve or reject an SEP.

Moreover, under the RESTORE Act the Council is given 60 days after submission of an SEP to approve or disapprove it for funding. This timeframe would not allow the Council sufficient time to conduct meaningful NEPA review. NEPA reviews, even those concluding that environmental impacts are not significant, typically require several months at a minimum—certainly longer than the 60 days allowed for Council approval of an SEP. Nor could the Council require a completed NEPA analysis to accompany a proposed SEP before starting the 60-day review (e.g., as part of or prior to an SEP submission); this would in effect impose an additional criterion for approval of an SEP, which is beyond Council authority under the RESTORE Act.

NEPA would therefore not apply to Council approval or funding of an SEP.

Regulatory Planning and Review (Executive Orders 12866 and 13563)

As an independent Federal entity that is composed of, in part, six Federal agencies, including the Departments of Agriculture, the Army, Commerce, and the Interior, and the Department in which the Coast Guard is operating, and the Environmental Protection Agency, the requirements of Executive Orders 12866 and 13563 are inapplicable to this rule.

Regulatory Flexibility Act

The Regulatory Flexibility Act (5 U.S.C. 601 et seq.) generally requires agencies to prepare a regulatory flexibility analysis of any rule subject to notice and comment rulemaking requirements under the Administrative Procedure Act or any other statute, unless the agency certifies that the rule will not have a significant economic impact on a substantial number of small entities. This rule will not have a significant economic impact on a substantial number of small entities because the direct recipients of the funds allocated under this rule are the five States, and states are not small entities under the Regulatory Flexibility Act. Additionally, this rule does not place any economic burden on the “coastal counties”; rather those counties will receive funds from their respective States' share of the allocated funds. Therefore, the Council has certified to the Chief Counsel for Advocacy of the Small Business Administration that this rule does not have a significant economic impact on a substantial number of small entities. Thus, an initial regulatory flexibility analysis is not required and has not been prepared. The Council invites comments on the rule's impact on small entities.

Paperwork Reduction Act

This rule is promulgated solely to establish an allocation formula and State allocation percentages. As such, there are no associated paperwork requirements. Any paperwork necessary to submit a SEP under the Spill Impact component of the RESTORE Act is a statutory requirement unaffected by this rule. 31 U.S.C. 1321(t)(3).

The Council requests public and Tribal comment on all aspects of this proposed rule.

List of Subjects in 40 CFR Part 1800

Coastal zone, Fisheries, Grant programs, Grants administration, Gulf Coast Restoration Trust Fund, Gulf RESTORE Program, Intergovernmental relations, Marine resources, Natural resources, Oil pollution, Research, Science and technology, Trusts, Wildlife.

For the reasons set forth in the preamble, the Gulf Coast Ecosystem Restoration Council proposes to amend 40 CFR part 1800 as follows:

PART 1800—SPILL IMPACT COMPONENT

1. The authority citation for part 1800 continues to read as follows:

Authority: 33 U.S.C. 1321(t).

2. Amend § 1800.1 by adding in alphabetical order the definitions for Deepwater Horizon oil spill, Spill Impact Formula, Inverse proportion, Treasury, and Trust Fund to read as follows:

§ 1800.1 Definitions.

* * * * *

Deepwater Horizon oil spill means the blowout and explosion of the mobile offshore drilling unit Deepwater Horizon that occurred on April 20, 2010, and resulting hydrocarbon releases into the environment.

Spill Impact Formula means the formula established by the Council in accordance with section 311(t)(3)(A)(ii) of the Federal Water Pollution Control Act, as added by section 1603 thereof.

* * * * *

Inverse proportion means a mathematical relation between two quantities such that one proportionally increases as the other decreases.

* * * * *

Treasury means the U.S. Department of the Treasury, the Secretary of the Treasury, or his/her designee.

Trust Fund means the Gulf Coast Restoration Trust Fund.

3. Add subpart C to read as follows:

Subpart C—Spill Impact Formula

Sec.
1800.100 Purpose.
1800.101 General formula.
1800.200 Oiled shoreline.
1800.201 Miles of shoreline that experienced oiling as a result of the Deepwater Horizon oil spill.
1800.202 Proportionate number of miles of shoreline that experienced oiling as a result of the Deepwater Horizon oil spill.
1800.300 Inverse proportion of the average distance from Deepwater Horizon at the time of the explosion.
1800.301 Distances from the Deepwater Horizon at the time of the explosion.
1800.302 Inverse proportions.
1800.400 Coastal county populations.
1800.401 Decennial census data.
1800.402 Distribution based on average population.
1800.500 Allocation.

§ 1800.100 Purpose.

This subpart establishes the formula applicable to the Spill Impact Component authorized under the RESTORE Act (Pub. L. 112-141, 126 Stat. 405, 588-607).

§ 1800.101 General formula.

The RESTORE Act provides that thirty percent (30%) of the funds made available from the Trust Fund for the Oil Spill Impact Component be disbursed to each of the Gulf Coast States of Alabama, Florida, Louisiana, Mississippi and Texas based on a formula established by the Council (Spill Impact Formula), through a regulation, that is based on a weighted average of the following criteria:

(a) Forty percent (40%) based on the proportionate number of miles of shoreline in each Gulf Coast State that experienced oiling on or before April 10, 2011, compared to the total number of miles of shoreline that experienced oiling as a result of the Deepwater Horizon oil spill;

(b) Forty percent (40%) based on the inverse proportion of the average distance from the mobile offshore drilling unit Deepwater Horizon at the time of the explosion to the nearest and farthest point of the shoreline that experienced oiling of each Gulf Coast State; and

(c) Twenty percent (20%) based on the average population in the 2010 Decennial Census of coastal counties bordering the Gulf of Mexico within each Gulf Coast State.

§ 1800.200 Oiled shoreline.

Solely for the purpose of calculating the Spill Impact Formula, the following shall apply, rounded to one decimal place with respect to miles of shoreline:

§ 1800.201 Miles of shoreline that experienced oiling as a result of the Deepwater Horizon oil spill.

According to Shoreline Cleanup and Assessment Technique and Rapid Assessment Technique data provided by the United States Coast Guard, the miles of shoreline that experienced oiling on or before April 10, 2011 for each Gulf Coast State are:

(a) Alabama—89.8 miles.

(b) Florida—174.6 miles.

(c) Louisiana—658.3 miles.

(d) Mississippi—158.6 miles.

(e) Texas—36.0 miles.

§ 1800.202 Proportionate number of miles of shoreline that experienced oiling as a result of the Deepwater Horizon oil spill.

The proportionate number of miles for each Gulf Coast State is determined by dividing each Gulf Coast State's number of miles of oiled shoreline determined in 1800.201 by the total number of affected miles. This calculation yields the following:

(a) Alabama—8.04%.

(b) Florida—15.63%.

(c) Louisiana—58.92%.

(d) Mississippi—14.19%.

(e) Texas—3.22%.

§ 1800.300 Inverse proportion of the average distance from Deepwater Horizon at the time of the explosion.

Solely for the purpose of calculating the Spill Impact Formula, the following shall apply, rounded to one decimal place with respect to distance:

§ 1800.301 Distances from the Deepwater Horizon at the time of the explosion.

(a) Alabama—The distance from the nearest point of the Alabama shoreline that experienced oiling from the Deepwater Horizon oil spill was 89.2 miles. The distance from the farthest point of the Alabama shoreline that experienced oiling from the Deepwater Horizon oil spill was 103.7 miles. The average of these two distances is 96.5 miles.

(b) Florida—The distance from the nearest point of the Florida shoreline that experienced oiling from the Deepwater Horizon oil spill was 102.3 miles. The distance from the farthest point of the Florida shoreline that experienced oiling from the Deepwater Horizon oil spill was 207.6 miles. The average of these two distances is 154.9 miles.

(c) Louisiana—The distance from the nearest point of the Louisiana shoreline that experienced oiling from the Deepwater Horizon oil spill was 43.5 miles. The distance from the farthest point of the Louisiana shoreline that experienced oiling from the Deepwater Horizon oil spill was 213.7 miles. The average of these two distances is 128.6 miles.

(d) Mississippi—The distance from the nearest point of the Mississippi shoreline that experienced oiling from the Deepwater Horizon oil spill was 87.7 miles. The distance from the farthest point of the Mississippi shoreline that experienced oiling from the Deepwater Horizon oil spill was 107.9 miles. The average of these two distances is 97.8 miles.

(e) Texas—The distance from the nearest point of the Texas shoreline that experienced oiling from the Deepwater Horizon oil spill was 306.2 miles. The distance from the farthest point of the Texas shoreline that experienced oiling from the Deepwater Horizon oil spill was 356.5 miles. The average of these two distances is 331.3 miles.

§ 1800.302 Inverse proportions.

The inverse proportion for each Gulf Coast State is determined by summing the proportional average distances determined in 1800.301 and taking the inverse. This calculation yields the following:

(a) Alabama—27.39%.

(b) Florida—17.06%.

(c) Louisiana—20.55%.

(d) Mississippi—27.02%.

(e) Texas—7.98%.

§ 1800.400 Coastal county populations.

Solely for the purpose of calculating the Spill Impact Formula, the coastal political subdivisions bordering the Gulf of Mexico within each Gulf Coast State are:

(a) The Alabama Coastal Counties, consisting of Baldwin and Mobile counties;

(b) The Florida Coastal Counties, consisting of Bay, Charlotte, Citrus, Collier, Dixie, Escambia, Franklin, Gulf, Hernando, Hillsborough, Jefferson, Lee, Levy, Manatee, Monroe, Okaloosa, Pasco, Pinellas, Santa Rosa, Sarasota, Taylor, Wakulla, and Walton counties;

(c) The Louisiana Coastal Parishes, consisting of Cameron, Iberia, Jefferson, Lafourche, Orleans, Plaquemines, St. Bernard, St. Mary, St. Tammany, Terrebonne, and Vermilion parishes;

(d) The Mississippi Coastal Counties, consisting of Hancock, Harrison, and Jackson counties; and

(e) The Texas Coastal Counties, consisting of Aransas, Brazoria, Calhoun, Cameron, Chambers, Galveston, Jefferson, Kennedy, Kleberg, Matagorda, Nueces, and Willacy counties.

§ 1800.401 Decennial census data.

The average populations in the 2010 decennial census for each Gulf Coast State, rounded to the nearest whole number, are:

(a) For the Alabama Coastal Counties, 297,629 persons;

(b) For the Florida Coastal Counties, 252,459 persons;

(c) For the Louisiana Coastal Parishes, 133,633 persons;

(d) For the Mississippi Coastal Counties,123,567 persons; and

(e) For the Texas Coastal Counties, 147,845 persons.

§ 1800.402 Distribution based on average population.

The distribution of funds based on average populations for each Gulf Coast State is determined by dividing the average population determined in 1800.401 by the sum of those average populations. This calculation yields the following results:

(a) Alabama—31.16%.

(b) Florida—26.43%.

(c) Louisiana—13.99%.

(d) Mississippi—12.94%.

(e) Texas—15.48%.

§ 1800.500 Allocation.

Using the data from sections 1800.200 through 1800.402 of this subpart in the formula provided in section 1800.101 of this subpart yields the following allocation for each Gulf Coast State:

(a) Alabama—20.40%.

(b) Florida—18.36%.

(c) Louisiana—34.59%.

(d) Mississippi—19.07%.

(e) Texas—7.58%.

Justin R. Ehrenwerth,
Executive Director, Gulf Coast Ecosystem Restoration Council.

[FR Doc. 2015-24816 Filed 9-28-15; 8:45 am]

BILLING CODE 6560-58-P